DEPARTMENT OF THE INTERIOR

Bureau of Land Management

[NV-050-5853-ES; N-76721]

Notice of Realty Action; Recreation and Public Purposes Act Classification of Public Lands in Clark County, NV

AGENCY: Bureau of Land Management, Interior.

ACTION: Notice of realty action.

SUMMARY: The Bureau of Land Management (BLM) has examined and found suitable for classification for lease and subsequent conveyance under the provisions of the Recreation and Public Purposes (R&PP) Act (43 U.S.C. 869 et seq.), as amended, approximately 5 acres of public land in Clark County, Nevada. The City of Las Vegas (City) proposes to use the land as a Las Vegas Metropolitan Police Substation and related facilities.

DATES: Interested parties may submit written comments regarding the proposed lease/conveyance or classification of the lands until December 14, 2006.

ADDRESSES: Send written comments to the Field Manager, Las Vegas Field Office, Bureau of Land Management, 4701 N. Torrey Pines Drive, Las Vegas, Nevada 89130-2301.

FOR FURTHER INFORMATION CONTACT: Rebecca L. Rury, Realty Specialist, Las Vegas Field Office, Bureau of Land Management, (702) 515-5087.

SUPPLEMENTARY INFORMATION: The City filed an R&PP Act application for 5 acres of public land to be developed as a Las Vegas Metropolitan Police Substation and related facilities. These related facilities include a substation building facility, (offices, kitchen, restrooms, utility/storage rooms, generator pad, and mechanical yard), ancillary equipment, separated paved parking areas for police and citizens, landscaped areas, lighting and utilities, and off-site improvements (boundary streets, utilities, street lighting, and sidewalks). The parcel of public land located on the southeast portion of the Las Vegas Metropolitan area is described below:

Mount Diablo Meridian, Nevada

T. 21 S., R. 60 E.,

Sec. 9, E½NE¼SW¼NW¼.

The area described contains 5 acres, more or less, in Clark County.

The land is not required for any Federal purpose. The lease/conveyance is consistent with the BLM Las Vegas Resource Management Plan dated October 5, 1998, and would be in the public interest. The lease/conveyance, when issued, will be subject to the provisions of the R&PP Act and applicable regulations of the Secretary of the Interior, and will contain the following reservations to the United States:

1. A reservation of a right-of-way thereon for ditches or canals constructed by the authority of the United States, Act of August 30, 1890 (43 U.S.C. 945).

2. All minerals shall be reserved to the United States, together with the right to prospect for, mine and remove such deposits from the same under applicable law and such regulations as the Secretary of the Interior may prescribe.

The lease/conveyance will be subject to:

1. Valid existing rights of record, including, but not limited to those documented on the BLM public land records at the time of lease issuance.

Detailed information concerning this action is available for review in the office of the BLM, Las Vegas Field Office at the address listed above.

On October 30, 2006, the above described land will be segregated from all other forms of appropriation under the public land laws, including the general mining laws, except for lease/conveyance under the R&PP Act, leasing under the mineral leasing laws and disposals under the mineral material disposal laws.

Classification Comments: Interested parties may submit comments involving the suitability of the land for a Las Vegas Metropolitan Police Substation and related facilities. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a Las Vegas Metropolitan Police Substation and related facilities. Comments received during this process, including the respondent's name, address, and other contact information will be available for public review. Individual respondents may request confidentiality. If you wish to request that BLM consider withholding your name, address, and other contact information from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization. Any adverse comments will be reviewed by the BLM, Nevada State Director who may sustain, vacate, or modify this realty action.

In the absence of any adverse comments, the classification will become effective on December 29, 2006. The land will not be available for lease and subsequent conveyance until after the classification becomes effective.

(Authority: 43 CFR 2741)

Sharon DiPinto,
Assistant Field Manager, Division of Lands, Las Vegas, NV.

[FR Doc. E6-18078 Filed 10-27-06; 8:45 am]

BILLING CODE 4310-HC-P